OFFICE OF THE UNITED STATES TRADE REPRESENTATIVE

Determination Regarding Waiver of Discriminatory Purchasing Requirements With Respect to Goods and Services Covered by Chapter Nine of the United States-Oman Free Trade Agreement

AGENCY: Office of the United States Trade Representative.

ACTION: Determination under Trade Agreements Act of 1979.

DATES: Effective Date: January 1, 2009.

FOR FURTHER INFORMATION CONTACT: Jean Heilman Grier, Senior Procurement Negotiator, Office of the United States Trade Representative, (202) 395-9476, or Katherine Tai, Associate General Counsel, Office of the United States Trade Representative, (202) 395-9589.

On January 19, 2006, the United States and Oman entered into the United States-Oman Free Trade Agreement (“Oman FTA”). Chapter Nine of the Oman FTA sets forth certain obligations with respect to government procurement of goods and services, as specified in Annex 9 of the Oman FTA. On September 26, 2006, the President signed into law the United States-Oman Free Trade Agreement Implementation Act (“the Oman FTA Act”) (Pub. L. 109-283, 120 Stat. 1191) (19 U.S.C. 3805 note). In section 101(a) of the Oman FTA Act, the Congress approved the Oman FTA. The Oman FTA entered into force on January 1, 2009.

Section 1-201 of Executive Order 12260 of December 31, 1980 (46 FR 1653) delegates the functions of the President under Sections 301 and 302 of the Trade Agreements Act of 1979 (“the Trade Agreements Act”) (19 U.S.C. 2511, 2512) to the United States Trade Representative.

Now, therefore, I, Susan C. Schwab, United States Trade Representative, in conformity with the provisions of Sections 301 and 302 of the Trade Agreements Act, and Executive Order 12260, and in order to carry out U.S. obligations under Chapter Nine of the Oman FTA, do hereby determine that:

1. Oman is a country, other than a major industrialized country, which, pursuant to the Oman FTA, will provide appropriate reciprocal competitive government procurement opportunities to United States products and suppliers of such products. In accordance with Section 301(b)(3) of the Trade Agreements Act, Oman is so designated for purposes of Section 301(a) of the Trade Agreements Act.

2. With respect to eligible products of Oman (i.e., goods and services covered by the Schedules of the United States in Annex 9 of the Oman FTA) and suppliers of such products, the application of any law, regulation, procedure, or practice regarding government procurement that would, if applied to such products and suppliers, result in treatment less favorable than accorded—

(A) To United States products and suppliers of such products; or

(B) To eligible products of another foreign country or instrumentality which is a party to the Agreement on Government Procurement referred to in section 101(d)(17) of the Uruguay Round Agreements Act (19 U.S.C. 3511(d)(17)) and suppliers of such products, shall be waived.

With respect to Oman, this waiver shall be applied by all entities listed in the Schedules of the United States in Section A and in List A of Section B of Annex 9 of the Oman FTA.

3. The designation in paragraph 1 and the waiver in paragraph 2 are subject to modification or withdrawal by the United States Trade Representative.

Dated: December 30, 2008.
Susan C. Schwab,
United States Trade Representative.

[FR Doc. E8-31407 Filed 1-2-09; 8:45 am]

BILLING CODE 3190-W9-P